FEDERAL COMMUNICATIONS COMMISSION

47 CFR Part 73

[MB Docket No. 16-422; RM-11783; DA 17-125]

Radio Broadcasting Services; Fort Walton Beach, Florida

AGENCY: Federal Communications Commission.

ACTION: Proposed rule.

SUMMARY: This document requests comments on a Petition for Rulemaking filed by Northwest Florida Media, LLC, proposing to amend the FM Table of Allotments, of the Commission's rules, by allotting Channel 295A at Fort Walton Beach, Florida, as a sixth local service. A staff engineering analysis indicates that Channel 295A can be allotted to Fort Walton Beach, consistent with the minimum distance separation requirements of the Commission's rules without a site restriction. The reference coordinates are 30-24-40 NL and 86-37-28 WL.

DATES: Comments must be filed on or before March 27, 2017, and reply comments on or before April 11, 2017.

ADDRESSES: Secretary, Federal Communications Commission, 445 Twelfth Street SW., Washington, DC 20554. In addition to filing comments with the FCC, interested parties should serve the petitioner as follows: David D. Burns, Esq., Pillsbury Winthrop Shaw Pittman LLP, 1200 Seventeenth Street NW., Washington, DC 20036.

FOR FURTHER INFORMATION CONTACT: Rolanda F. Smith, Media Bureau, (202) 418-2700.

SUPPLEMENTARY INFORMATION: This is a synopsis of the Commission's Notice of Proposed Rule Making, MB Docket No. 16-422, adopted February 2, 2017 and released February 3, 2017. The full text of this Commission decision is available for inspection and copying during normal business hours in the FCC's Reference Information Center at Portals II, CY-A257, 445 Twelfth Street SW., Washington, DC 20554. The full text is also available online at http://apps.fcc.gov/ecfs/. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR part 73 as follows:

PART 73—RADIO BROADCAST SERVICES

1. The authority citation for part 73 continues to read as follows:

Authority: 47 U.S.C. 154, 303, 334, 336 and 339.

§ 73.202 [Amended]

2. Section 73.202(b), the table is amended by adding an entry under Florida for Fort Walton Beach to read as follows:

§ 73.202 Table of Allotments.

* * * * *

(b) Table of FM Allotments.

FLORIDA
* * * * *
Fort Walton Beach | 295A
* * * * *

* * * * *

[FR Doc. 2017-02977 Filed 2-14-17; 8:45 am]

BILLING CODE 6712-01-P